ENVIRONMENTAL PROTECTION AGENCY

[FRL-10152-04-R10]

Proposed Reissuance of National Pollutant Discharge Elimination System (NPDES) General Permit for Federal Aquaculture Facilities and Aquaculture Facilities Located in Indian Country in Washington (WAG130000)

AGENCY: Environmental Protection Agency (EPA).

ACTION: Notice of proposed reissuance of NPDES General Permit and request for public comment.

SUMMARY: On September 7, 2022, EPA Region 10 proposed to reissue a general permit for Federal Aquaculture Facilities and Aquaculture Facilities Located in Indian Country in Washington. In response to requests from the regulated community, EPA extended the end of the public comment period from November 7 to December 22, 2022. With this document, EPA is initiating a second public comment period focused exclusively on four changes made to the General Permit.

DATES: Comments must be received by September 1, 2023.

ADDRESSES: Comments and requests regarding the draft general permit must be submitted to epar10wd-npdes@epa.gov with the subject line: Public Comments on WAG130000.

FOR FURTHER INFORMATION CONTACT: Permit documents may be found on the EPA Region 10 website at: https://www.epa.gov/npdes-permits/npdes-general-permit-federal-aquaculture-facilities-and-aquaculture-facilities-located.

Copies of the draft general permit and fact sheet are also available upon request. Requests may be made to Audrey Washington at (206) 553-0523. Requests may also be electronically mailed to: washington.audrey@epa.gov.

SUPPLEMENTARY INFORMATION: The comment period for the notice of proposed reissuance of NPDES General Permit published September 7, 2022 (87 FR 54688), was extended to December 22, 2022 (November 2, 2022, 87 FR 66178). EPA is initiating a second public comment period focused exclusively on four changes made to the General Permit:

1. Inclusion of Soluble Reactive Phosphorus (SRP) effluent limits for the White River Hatchery (existing) and the proposed Coal Creek Springs Fish Facility (planned) based on the Lower White River pH Total Maximum Daily Load (TMDL), approved by EPA on January 13, 2023.

2. Changes to temperature monitoring requirements for facilities discharging to temperature impaired rivers.

3. The frequency and timing of PCB monitoring for facilities on the Spokane Reservation based on the Spokane Tribe of Indians 401 certification.

4. Adjustment of the Temperature Compliance Schedule Length and Milestones for Skookum Creek Hatchery.

Michael J. Szerlog,
Acting Director, Water Division, Region 10.

[FR Doc. 2023-15193 Filed 7-17-23; 8:45 am]

BILLING CODE 6560-50-P